NUCLEAR REGULATORY COMMISSION

[NRC-2018-0161]

Information Collection: Exemptions and Continued Regulatory Authority in Agreement States and in Offshore Waters Under Section 274 of the Atomic Energy Act of 1954

AGENCY: Nuclear Regulatory Commission.

ACTION: Notice of submission to the Office of Management and Budget; request for comment.

SUMMARY: The U.S. Nuclear Regulatory Commission (NRC) has recently submitted a proposed collection of information which included a request for revision of an existing collection of information to the Office of Management and Budget (OMB) for review. The information collection is entitled, “10 CFR part 150, Exemptions and Continued Regulatory Authority in Agreement States and in Offshore Waters Under Section 274 of the Atomic Energy Act of 1954.”

DATES: Submit comments by April 17, 2019.

ADDRESSES: Submit comments directly to the OMB reviewer at: OMB Office of Information and Regulatory Affairs (3150-0032), Attn: Desk Officer for the Nuclear Regulatory Commission, 725 17th Street NW, Washington, DC 20503; email: oira_submission@omb.eop.gov.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comments

A. Obtaining Information

Please refer to Docket ID NRC-2018-0161 when contacting the NRC about the availability of information for this action. You may obtain publicly-available information related to this action by any of the following methods:

• Federal rulemaking Website: Go to http://www.regulations.gov and search for Docket ID NRC-2018-0161.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@NRC.GOV.

B. Submitting Comments

The NRC cautions you not to include identifying or contact information in your comment submissions that you do not want to be publicly disclosed. All comment submissions are posted at http://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a proposed collection of information which included a request for extension of an existing collection of information to OMB for review entitled, “The Office of Nuclear Material Safety and Safeguards Requests for Information on 10 CFR part 150, Exemptions and Continued Regulatory Authority in Agreement States and in Offshore Waters Under Section 274 of the Atomic Energy Act of 1954.” The NRC hereby informs potential respondents that an agency may not conduct or sponsor, and that a person is not required to respond to, a collection of information unless it displays a currently valid OMB control number.

The NRC published a Federal Register notice with a 60-day comment period on this information collection on October 10, 2018, (83 FR 50969).

1. The title of the information collection: 10 CFR part 150, Exemptions and Continued Regulatory Authority in Agreement States and in Offshore Waters Under Section 274 of the Atomic Energy Act of 1954.

2. OMB approval number: 3150-0032.

3. Type of submission: Extension.

4. The form number if applicable: N/A.

5. How often the collection is required or requested: One-time or as-needed.

6. Who will be required or asked to respond: Agreement States who have signed Section 274(b) Agreements with the NRC.

7. The estimated number of annual responses: 8.

8. The estimated number of annual respondents: 8.

9. An estimate of the total number of hours needed annually to comply with the Information collection requirement or request: 190.

10. Abstract: The Nuclear Regulatory Commission (NRC) regulations in part 150 of Title 10 of the Code of Federal Regulations (10 CFR), provide certain exemptions to persons in Agreement States from the licensing requirements contained in Chapters 6, 7, and 8 of the Atomic Energy Act of 1954, as amended, and certain regulations of the Commission. The regulations in 10 CFR part 150 also define the Commission's continued regulatory authority over Agreement State activities which include byproduct, source, and special nuclear material reporting requirements related to reciprocity and enforcement. There exists a need for the NRC to gather information concerning the application, recordkeeping, and reporting requirements imposed by specific sections of 10 CFR part 150.

Dated at Rockville, Maryland, this 12th day of March 2019.
For the Nuclear Regulatory Commission.
Kristen E. Benney,
Acting NRC Clearance Officer, Office of the Chief Information Officer.

[FR Doc. 2019-04910 Filed 3-15-19; 8:45 am]

BILLING CODE 7590-01-P